FEDERAL COMMUNICATIONS COMMISSION

[OMB 3060-0228; FR ID 245832]

Information Collection Approved by the Office of Management and Budget

AGENCY: Federal Communications Commission.

ACTION: Notice.

SUMMARY: The Federal Communications Commission (FCC) has received Office of Management and Budget (OMB) approval for the following public information collection pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed below.

FOR FURTHER INFORMATION CONTACT: Kathleen Curameng, Mobility Division, Wireless Telecommunications Bureau, at (571) 435-9424, or email: Kathleen.Curameng@fcc.gov.

SUPPLEMENTARY INFORMATION:

OMB Control No.: 3060-0228.

OMB Approval Date: August 27, 2024.

Expiration Date: August 31, 2027.

Title: Section 80.59, Compulsory Ship Inspections and Ship Inspection Certificates, FCC Forms 806, 824, 827 and 829.

Form No.: FCC Forms 806, 824, 827, and 829.

Respondents: Business or other for profit, not-for-profit institutions, and State, local, or Tribal government.

Number of Respondents: 15,175 respondents; 15,175 responses.

Estimated Time per Response: The actual inspection will take approximately 4 hours to complete. Each ship inspection certificate will take approximately 0.083 hours (5 minutes) to complete. Providing a summary in the ship's log will take approximately 0.25 hours (15 minutes) to complete. These estimates are based on FCC staff's knowledge and familiarity with the availability of the data required.

Frequency of Response: On occasion, annual, and every five-year reporting requirements, recordkeeping requirement, and third party disclosure requirement.

Obligation to Respond: Required for regulatory or compliance. The statutory authority for this collection 47 U.S.C. 154, 303, 307(e), 309 and 332, unless noted.

Total Annual Burden: 23,229 hours.

Total Annual Cost: No cost.

Needs and Uses: The requirements contained in section 80.59 are necessary to implement the provisions of section 362(b) of the Communications Act of 1934, as amended, which require the Commission to inspect the radio installation of large cargo ships and certain passenger ships at least once a year to ensure that the radio installation is in compliance with the Communications Act.

Additionally, section 385 of the Communications Act requires the inspection of small passenger ships at least once every five years, and subpart T of part 80 of the Commission's rules requires the inspection of certain vessels operating in the Great Lakes at least once every 48 months.

The Safety Convention—an international treaty (to which the United States (U.S.) is a signatory)—also requires an annual inspection. The Safety Convention permits an Administrator to entrust the inspections to either surveyors nominated for the purpose or to organizations recognized by it. Therefore, the U.S. can have other parties conduct the radio inspection of vessels for compliance with the Safety Convention.

The Commission allows FCC-licensed technicians to conduct these inspections. FCC-licensed technicians not only certify that the ship passed an inspection, but also issue a safety certificate. These safety certificates (FCC Forms 806, 824, 827, and 829) indicate that the vessel complies with the Communications Act, the Commission's rules, and the Safety Convention. These technicians are required to provide a summary of the results of the inspection in the ship's log. In addition, the vessel's owner, operator, or ship's master must certify in the ship's log that the inspection was satisfactory. Inspection certificates issued in accordance with the Safety Convention must be posted in a prominent and accessible place on the ship.

Further, section 80.59(d) states that the Commission may, upon a finding that the public interest would be served, grant a waiver of the annual inspection required by section 362(b) of the Communications Act, for a period of not more than 90 days for the sole purpose of enabling a U.S. vessel to complete its voyage and proceed to a port in the U.S. when an inspection can be held. An information application must be submitted by a ship's owner, operator, or authorized agent. The application must be electronically submitted to the FCC Headquarters (via email to Ghassan.Khalek@fcc.gov, Katie.Knox@fcc.gov, Kathleen.Curameng@fcc.gov, and Thomas.Derenge@fcc.gov) at least three days before the ship's arrival. The application must provide specific information that is contained in rule section 80.59. The forms to be completed are FCC Forms 806, 824, 827, and 829.

Federal Communications Commission.
Marlene Dortch,
Secretary, Office of the Secretary.

[FR Doc. 2024-21472 Filed 9-19-24; 8:45 am]

BILLING CODE 6712-01-P